DEPARTMENT OF ENERGY

Federal Energy Regulatory Commission

Notice of Unlicensed Project Review and Solicitation of Comments, Protests and Motions To Intervene

May 10, 2002.

Take notice that the following review has been initiated by the Commission:

a. Review Type: Unlicensed Project.

b. Docket No.: UL01-3-000.

c. Owner: PacifiCorp.

d. Name of Project: Naches Hydroelectric Project.

e. Location: The project is located on the Naches River in Yakima County, Washington. (T. 14 N., R. 17 E., secs. 2, 3, 11, 12 and 13; T. 15 N., R. 16 E., sec. 36; and T. 15 N., R. 17 E., secs. 31, 32, and 33, Willamette Meridian, Washington). This project does not occupy Federal or Tribal lands.

f. FERC Contact: Any questions on this notice should be addressed to Henry Ecton (202) 219-2678, or e-mail address: henry.ecton@ferc.gov.

g. Deadline for filing comments, protests, and/or motions to intervene: June 13, 2002.

All documents (original and eight copies) should be filed with: Magalie R. Salas, Secretary, Federal Energy Regulatory Commission, 888 First Street, NE., Washington DC 20426. Comments, protests, and interventions may be filed electronically via the Internet in lieu of paper. Any questions, please contact the Secretary's Office. See, 18 CFR 385.2001(a)(1)(iii) and the instructions on the Commission's web site at http://www.ferc.gov.

Please include the docket number (UL01-3-000) on any comments, protests, or motions to intervene filed.

h. Description of Project: The existing Naches Hydroelectric Project, a run-of-river project, consists of: (1) A 6-foot-high concrete diversion dam; (2) a concrete intake gate structure; (3) an 8.2-mile-long concrete-lined power canal; (4) the Drop Plant, located 4.8 miles from the intake structure, with a 340-foot-long penstock and containing a turbine-generator rated at 1,400 kW; (5) the Naches Plant, located along the canal 3.4 miles from the Drop Plant, fed by two 545-foot-long penstocks from a small forebay, and containing two hydroelectric generating units with rated capacities of 3,000 kW and 3,370 kW; (6) a 12-kV, 3-mile-long transmission line connecting the two plants; and (7) appurtenant facilities.

Pursuant to Section 23(b)(1) of the Federal Power Act ( FPA), 16 U.S.C. 817(1), a non-federal hydroelectric project must (unless it has a still-valid pre-1920 federal permit) be licensed if it is located on a navigable water of the United States; occupies lands of the United States; utilizes surplus water or water power from a government dam; or is located on a body of water over which Congress has Commerce Clause jurisdiction, project construction occurred on or after August 26, 1935, and the project affects the interests of interstate or foreign commerce. The purpose of this notice is to gather information to determine whether the existing project meets any or all of the above criteria, as required by the FPA. Copies of “Navigation Status Report: Yakima River, Washington, and Naches River, Washington” is available on RIMS on the Web under UL01-3-000 (May 2002).

i. Individuals desiring to be included on the Commission's mailing list should so indicate by writing to the Secretary of the Commission.

j. Protests, or Motions to Intervene—Anyone may submit comments, a protest, or a motion to intervene in accordance with the requirements of Rules of Practice and Procedure, 18 CFR 385.210, .211, .214. In determining the appropriate action to take, the Commission will consider all protests, but only those who file a motion to intervene in accordance with the Commission's Rules may become a party to the proceeding. Any protests or motions to intervene must be received on or before the specified comment date for the particular application.

k. Filing and Service of Responsive Documents—Any filings must bear in all capital letters the title “COMMENTS”, “PROTEST”, OR “MOTION TO INTERVENE”, as applicable, and the Docket Number of the particular review.

l. Agency Comments—Federal, state, and local agencies are invited to file comments on the described review. If an agency does not file comments within the time specified for filing comments, it will be presumed to have no comments.

Magalie R. Salas,
Secretary.

[FR Doc. 02-12195 Filed 5-15-02; 8:45 am]

BILLING CODE 6717-01-P